RAILROAD RETIREMENT BOARD

Civil Monetary Penalty Inflation Adjustment

AGENCY: Railroad Retirement Board.

ACTION: Notice announcing updated penalty inflation adjustments for civil monetary penalties for 2017.

SUMMARY: As required by Section 701 of the Bipartisan Budget Act of 2015, entitled the Federal Civil Penalties Inflation Adjustment Act Improvements Act of 2015, the Railroad Retirement Board (Board) hereby publishes its 2017 annual adjustment of civil penalties for inflation.

FOR FURTHER INFORMATION CONTACT: Marguerite P. Dadabo, Assistant General Counsel, Railroad Retirement Board, 844 North Rush Street, Chicago, IL 60611-2092, (312) 751-4945, TTD (312) 751-4701.

SUPPLEMENTARY INFORMATION: Section 701 of the Bipartisan Budget Act of 2015, Public Law 114-74 (Nov. 2, 2015), entitled the Federal Civil Penalties Inflation Adjustment Act Improvements Act of 2015 (the 2015 Act), amended the Federal Civil Penalties Inflation Adjustment Act of 1990 (28 U.S.C. 2461 note) (Inflation Adjustment Act) to require agencies to publish regulations adjusting the amount of civil monetary penalties provided by law within the jurisdiction of the agency not later than July 1, 2016, and annual adjustments thereafter. The Board published an interim final rule in the Federal Register in accordance with this requirement on May 2, 2016 (see 81 FR 26127).

For the 2017 annual adjustment for inflation of the maximum civil penalty under the Program Fraud Civil Remedies Act of 1986, the Board applies the formula provided by the 2015 Act and the Board's interim final rule of May 2, 2016. In accordance with the 2015 Act, the amount of the adjustment is based on the percent increase between the CPI-U for the month of October preceding the date of the adjustment and the CPI-U for the October one year prior to the October immediately preceding the date of the adjustment. If there is no increase, there is no adjustment of civil penalties. The percent increase between the CPI-U for October 2016 and October 2015, as provided by Office of Management and Budget Memorandum M-17-11 (December 16, 2016) is 1.01636 percent. Therefore, the new maximum penalty under the Program Fraud Civil Remedies Act is $10,957 (the 2016 maximum penalty of $10,781 multiplied by 1.01636, rounded to the nearest dollar). The new minimum penalty under the False Claims Act is $10,957 (the 2016 minimum penalty of $10,781 multiplied by 1.01636, rounded to the nearest dollar), and the new maximum penalty is $21,916 (the 2016 maximum penalty of $21,563 multiplied by 1.01636, rounded to the nearest dollar). The adjustments in penalties will be effective October 27, 2017.

By Authority of the Board.
Martha P. Rico,
Secretary to the Board.

[FR Doc. 2017-23351 Filed 10-26-17; 8:45 am]

BILLING CODE 7905-01-P